ENVIRONMENTAL PROTECTION AGENCY

40 CFR Part 52

[WY-001-0007a, WY-001-0008a, WY-001-0009a; FRL-7166-2]

Approval and Promulgation of Air Quality Implementation Plans; Wyoming; Withdrawal of Direct Final Rule

AGENCY: Environmental Protection Agency (EPA).

ACTION: Withdrawal of direct final rule.

SUMMARY: Due to the State of Wyoming's withdrawal of the August 9, 2000, August 7, 2001 and August 13, 2001 submittals to the EPA that revise the Wyoming State Implementation Plan (SIP), EPA is withdrawing the direct final rule to partially approve and partially disapprove these revisions that restructure and modify the State's air quality rules. In the direct final rule, published on February 6, 2002 (67 FR 5485), we stated that if we received adverse comment by March 8, 2002, the rule would be withdrawn and would not take effect. EPA subsequently received a letter from the State of Wyoming (on March 8, 2002) withdrawing the three submittals that EPA is taking action on in our February 6, 2002 direct final rule. EPA also received adverse comments from the Wyoming Outdoor Council (on March 7, 2002). Since, in addition to receiving adverse comments, the State of Wyoming withdrew their submittals, the direct final rule is withdrawn and will not take effect. In the “Proposed Rules” section of today's Federal Register publication, we are withdrawing the proposed rule published on February 6, 2002 (67 FR 5552).

EFFECTIVE DATE: The direct final rule is withdrawn as of April 1, 2002.

FOR FURTHER INFORMATION CONTACT: Megan Williams, EPA Region VIII, (303) 312-6431 or Laurel Dygowski, EPA Region VIII, (303) 312-6144.

SUPPLEMENTARY INFORMATION: See the information provided in the direct final rule located in the Rules and Regulations section of the February 6, 2002 Federal Register (67 FR 5485).

List of Subjects in 40 CFR Part 52

Environmental protection, Air pollution control, Carbon monoxide, Incorporation by reference, Intergovernmental relations, Lead, Nitrogen Dioxide, Ozone, Particulate matter, Reporting and recordkeeping requirements, Sulfur oxides, and Volatile organic compounds.

Dated: March 25, 2002.
Jack W. McGraw,
Acting Regional Administrator, Region VIII.

Accordingly, the addition of 40 CFR 52.2620(c)(30) and the amendment to 40 CFR 52.2622 are withdrawn as of April 1, 2002.

[FR Doc. 02-7772 Filed 3-29-02; 8:45 am]

BILLING CODE 6560-50-P